DEPARTMENT OF ENERGY

Federal Energy Regulatory Commission

[Project No. 10853-022]

Otter Tail Power Company; Notice of Application Tendered for Filing With the Commission and Establishing Procedural Schedule for Licensing and Deadline for Submission of Final Amendments

Take notice that the following hydroelectric application has been filed with the Commission and is available for public inspection.

a. Type of Application: New Major License.

b. Project No.: 10853-022.

c. Date Filed: November 27, 2019.

d. Applicant: Otter Tail Power Company.

e. Name of Project: Otter Tail River Hydroelectric Project.

f. Location: The Otter Tail River Hydroelectric Project consists of five developments on the Otter Tail River that starts in the Township of Friberg, Minnesota and extends downstream (south) of the City of Fergus Falls, Minnesota. The project does not occupy federal land.

g. Filed Pursuant to: Federal Power Act, 16 U.S.C. 791(a)-825(r).

h. Applicant Contact: Michael Olson, Natural Gas Turbine Operations and NERC Compliance, Otter Tail Power Company, 215 South Cascade Street, Fergus Falls, Minnesota 56537; (218) 739-8411; mjolson@otpco.com.

i. FERC Contact: Patrick Ely at (202) 502-8570 or email at patrick.ely@ferc.gov.

j. This application is not ready for environmental analysis at this time.

k. The Otter Tail River Project consists of the following five existing developments listed upstream to downstream: (1) Friberg development; (2) Hoot development; (3) Central development; (4) Pisgah development; and (5) Dayton Hollow development.

The Friberg development consists of: (1) A reservoir with a surface area of 340 acres, and negligible storage capacity, at a normal water surface elevation of 1,299 feet mean sea level (msl); (2) a 341-foot-long dam which contains a 31-foot-high and 61-foot-long spillway with seven bays, an 80-foot-long and 36-foot-high east earthfill dike, and a 200-foot-long and 36-foot-high west earthfill dike; (3) a power canal; (4) a 194-foot-long, 9-foot-diameter penstock; (5) a 27-foot-wide and 27-foot-long reinforced concrete powerhouse; (6) a vertical turbine rated at 900 horsepower (hp) under a head of 35 feet, connected to a 560-kilowatt (kW) generator; (7) a tailrace; (8) a 75-foot-long, 2.4-kilovolt (kV) transmission line; and (9) appurtenant facilities.

The Hoot development facilities include: (1) A reservoir with a negligible surface area and storage capacity (dam diverts river flow) at a normal water surface elevation of 1,256 feet msl; (2) a 150-foot-long, 9-foot-high dam which contains a concrete spillway with six stoplogged openings with the two outer openings 5 feet 4 inches wide and the other four openings 11 feet 4 inches wide; (3) a 500-foot-long, 90-inch-diameter concrete tunnel (Hoot Lake); (4) a 20-foot-wide, 700-foot-long channel between Hoot Lake and Wright Lake; (5) a 20-foot-wide, 300-foot-long channel leading to the intake structure; (6) a 1,050-foot-long, 8-foot-square concrete tube; (7) a surge tank; (8) an 89-foot-long, 6-foot-diameter steel penstock; (9) a reinforced concrete powerhouse; (10) a horizontal turbine rated at 1,260 hp under a head of 68 feet connected to a 1,000-kw generator; (11) a tailrace; (12) a 200-foot-long, 2.4-kV transmission line; (13) a nature-like fishway; and (14) appurtenant facilities.

The Central development consists of: (1) A reservoir having a surface area of 15 acres and a storage capacity of 400 acre-feet, at a normal water surface elevation of 1,181 feet msl; (2) a 107-foot-long and 25-foot-high dam which contains a 70-foot-long and 25-foot-high spillway; (3) an intake structure; (4) a 30-foot-wide and 40-foot-long brick masonry powerhouse; (5) a vertical turbine rated at 720 hp under a head of 22 feet, connected to a 400-kW generator; (6) a tailrace; (7) a 40-foot-long, 2.4-kV transmission line; and (8) appurtenant facilities.

The Pisgah development consists of: (1) A reservoir having a surface area of 70 acres and storage capacity of 250 acre-feet at a normal water surface elevation of 1,156 feet msl; (2) a 493-foot-long concrete gravity and earthfill dam ranging in height from 21 feet to 38 feet which has (a) an earthfill dike, (b) a 123-foot-long and 38-foot-high concrete wing wall, (c) six spillway bays, (d) a 150-foot-long and 21-foot-high south earthfill embankment, and (e) a 220-foot-long and 38-foot-high north earthfill embankment; (3) an intake; (4) a 22-foot-wide and 32-foot-long reinforced concrete and brick masonry powerhouse; (5) a vertical turbine rated at 850 hp under a head of 25 feet, connected to a 520-kW generator; (6) a tailrace; (7) a 330-foot-long, 2.4-kV transmission line; and (8) appurtenant facilities.

The Dayton Hollow development consists of: (1) A reservoir having a surface area of 230 acres and a storage capacity of 5,000 acre-feet at a normal water surface elevation of 1,107 feet msl; (2) a 265-foot-long concrete and earthfill dam varying in height from 11 feet to 40 feet which contains (a) an 80-foot-long and 40-foot-high concrete spillway section, (b) a 95-foot-long and 11-foot-high east earthfill embankment, and (c) a 90-foot-long and 22-foot-high west earthfill embankment; (3) an intake structure; (4) a 22-foot-wide and 32-foot-long reinforced concrete and masonry powerhouse; (5) a vertical turbine rated at 800 hp under a head of 35 feet, connected to a 520-kW generator and a horizontal 650 hp turbine connected to a 450-kW generator; (6) a tailrace; (7) an 80-foot-long, 2.4-kV transmission line; and (8) appurtenant facilities.

The Otter Tail River Project is operated in a run-of-river mode with an estimated annual energy production of approximately 22,323 megawatt hours. Otter Tail Power Company proposes to continue operating the project as a run-of-river facility and does not propose any new construction or modifications to the project.

l. A copy of the application is available for review at the Commission in the Public Reference Room or may be viewed on the Commission's website at http://www.ferc.gov using the eLibrary link. Enter the docket number excluding the last three digits in the docket number field to access the document. For assistance, contact FERC Online Support at FERCOnlineSupport@ferc.gov, (866) 208-3676 (toll free), or (202) 502-8659 (TTY). A copy is also available for inspection and reproduction at the address in item h above.

m. You may also register online at http://www.ferc.gov/docs-filing/esubscription.asp to be notified via email of new filings and issuances related to this or other pending projects. For assistance, contact FERC Online Support.

n. Procedural Schedule: The application will be processed according to the following preliminary schedule. Revisions to the schedule will be made as appropriate.

Milestone | Target date
Notice of Acceptance/Notice of Ready for Environmental Analysis | April 2020.
Filing of recommendations, preliminary terms and conditions, and fishway prescriptions | June 2020.
Commission issues Environmental Assessment (EA) | November 2020.
Comments on EA | December 2020.
Modified terms and conditions | February 2021.

o. Final amendments to the application must be filed with the Commission no later than 30 days from the issuance date of the notice of ready for environmental analysis.

Dated: December 6, 2019.
Nathaniel J. Davis, Sr.,
Deputy Secretary.

[FR Doc. 2019-26764 Filed 12-11-19; 8:45 am]

BILLING CODE 6717-01-P